ENVIROMENTAL PROTECTION AGENCY

[FRL-8957-4]

Notice of U.S. Environmental Protection Agency Region III's Use of Web Site to Provide Notice of Intent To Terminate Pesticide Producing Establishment Registrations

AGENCY: Environmental Protection Agency (EPA).

ACTION: Information Notice.

SUMMARY: EPA Region III is announcing that it will be using its Web site to provide public notice of its intent to terminate pesticide producing establishment registrations under section 7 of the Federal Insecticide, Fungicide, and Rodenticide Act (FIFRA) in cases where it is unable to provide notice of its intent to terminate directly.

FOR FURTHER INFORMATION CONTACT: Kyla Townsend-McIntyre, Pesticides and Asbestos Programs Branch (3LC62), EPA Region III, 1650 Arch Street, Philadelphia, PA 19103-2029; telephone (215) 814-2045; fax (215) 814-3113; e-mail: townsend.kyla@epa.gov.

SUPPLEMENTARY INFORMATION: Section 7 of FIFRA requires that all establishments that produce pesticides, active ingredients used in producing pesticides, or devices subject to FIFRA be registered with EPA, and that all such establishments submit annual pesticide production reports to EPA. EPA regulations at 40 CFR part 167 establish requirements concerning these annual pesticide production reports including the types of information to be included in annual pesticide production reports (40 CFR 167.85). The regulations require annual pesticide production reports to be submitted to the EPA Regional Office which serves the area where the establishment is located (40 CFR 167.90). For establishments that are not found at the same location as their company headquarters, the regulations require the annual pesticide production reports to be submitted to the EPA Regional Office that has jurisdiction over the State in which the company headquarters is located (40 CFR 167.90). EPA's Region III office serves establishments or establishments with company headquarters located in Delaware, Maryland, Pennsylvania, Virginia, West Virginia and the District of Columbia (40 CFR 1.7).

The regulations state that establishment registrations are subject to termination if annual pesticide production reports are not submitted (40 CFR 167.20(f)). Upon deciding to terminate an establishment registration based on the failure to submit annual pesticide production reports, EPA Region III generally sends a notice of intent to terminate letter (NOIT) directly to the establishment registrant via certified mail with return receipt requested, or by other reliable delivery service that provides written verification of delivery. If the establishment registrant does not submit the missing pesticide production report(s) by the deadline set forth in the NOIT, EPA Region III will issue it a notice of termination letter (NOT).

NOITs are generally mailed to the establishment registrant's last address of record. Occasionally, such notices are returned as undeliverable and, despite reasonable efforts to locate such registrants, EPA Region III is unable to directly notify them of its intent to terminate their establishment registrations. In the past, EPA used the Federal Register to provide public notice of its intent to terminate such registrations. EPA Region III will now be using its Web site to provide public notice of its intent to terminate such establishment registrations. The Web site address is: http://www.epa.gov/reg3wcmd/pesticides.htm.

EPA Region III will continue to first attempt to provide NOITs directly to establishment registrants at their last address of record. In cases where such notices are returned as undeliverable, and when reasonable subsequent efforts to locate such parties are unsuccessful, EPA Region III will use its Web site to provide public notice of its intent to terminate such registrations. This notice addresses establishments or establishments with company headquarters located in Delaware, Maryland, Pennsylvania, Virginia, West Virginia and the District of Columbia only.

Dated: September 3, 2009.
Abraham Ferdas,
Director, Land and Chemicals Division, Region III.

[FR Doc. E9-22277 Filed 9-15-09; 8:45 am]

BILLING CODE 6560-50-P